DEPARTMENT OF COMMERCE

Foreign-Trade Zones Board

(Docket T-2-2007)

Foreign-Trade Zone 26 - Atlanta, Georgia, Application for Temporary/Interim Manufacturing Authority, Perkins Shibaura Engines LLC, (Diesel Engines), Griffin, GA

An application has been submitted to the Executive Secretary of the Foreign-Trade Zones Board (the Board) by Georgia Foreign-Trade Zone, Inc., grantee of FTZ 26, requesting temporary/interim manufacturing (T/IM) authority within FTZ 26 at the Perkins Shibaura Engines LLC (Perkins) facility in Griffin, Georgia. The application was filed on April 24, 2007.

The Perkins facility (150 employees) is located at 325 Green Valley Road within the the Green Valley Industrial Park in Griffin (Site 6). In 2006, T/IM authority was approved for Perkins to manufacture compact diesel engines under FTZ procedures for the U.S. market and export (71 FR 16756, 4-4-2006). The approval included authority to assemble up to 30,000 engines annually using certain foreign and domestic material inputs for a two-year period (expires 2-21-2008).

Based on the FTZ Board's modification of the T/IM procedure in September 2006, the applicant is now requesting additional authority under T/IM procedures for the remainder of its two-year period to assemble up to 50,000 diesel engines (HTSUS 8408.90; 10 - 60 horsepower), with an expanded list of foreign-origin components. The additional foreign components that would be used in the FTZ assembly activity include: rubber tubes/pipes/hoses, reinforced or non-reinforced (HTSUS 4009.11, 4009.31, 4009.32, 4009.41); transmission belts (4010.31, 4010.32); flanges (7307.91); spring/lock washers (7318.21); cotter pins (7318.24); dowel pins and keys, pin springs (7318.29); cooling fans (8414.59); holders (8414.90); air filters (8421.31); gears, gearboxes, speed changers, torque converters, ball/roller screws (8483.40); generators (8511.50); ignition parts (8511.90); electrical switches (8536.50) and connectors (8544.42); and, process control instruments (9032.89) (duty rates: free - 5.8%%). Perkins has also submitted a request for permanent FTZ manufacturing authority (which will be docketed with the Board separately), which separately includes 62 additional component inputs.

FTZ procedures would exempt Perkins from Customs duty payments on the foreign components used in production for export to non-NAFTA countries. On shipments to the U.S. and to NAFTA markets, Perkins could elect the finished engine duty rate (free) for the foreign components used in production when the finished engines are entered for U.S. consumption from the zone. The application indicates that the company would also realize duty deferral and certain logistical/supply chain savings.

Public comment is invited from interested parties. Submissions (original and 3 copies) shall be addressed to the Board's Executive Secretary at the following address: Office of the Executive Secretary, Room 2814B, U.S. Department of Commerce, 1401 Constitution Avenue, NW, Washington, DC 20230-0002. The closing period for receipt of comments is May 30, 2007.

A copy of the application will be available for public inspection at the Office of the Foreign-Trade Zones Board's Executive Secretary at the address listed above. For further information, contact Pierre Duy, examiner, at: pierre_duy@ita.doc.gov, or (202) 482-1378.

Dated: April 24, 2007.
Andrew McGilvray,
Executive Secretary.

[FR Doc. E7-8198 Filed 4-27-07; 8:45 am]

BILLING CODE 3510-DS-S